DEPARTMENT OF DEFENSE

Department of the Army; Corps of Engineers

Notice of Intent To Grant Partially Exclusive License of the United States Patent Application No. 12/243,708, Filed October 01, 2008 Entitled: “Biogenic Template for Enhanced Sorption of Contaminants”

AGENCY: Department of the Army, U.S. Army Corps of Engineers, DOD.

ACTION: Notice of Intent.

SUMMARY: In accordance with 37 CFR 404.7(a)(1)(i), announcement is made of a prospective partially exclusive license of the following U.S. Patent Application 12/243,708 Filed October 01, 2008 to Nereus Environmental LLC for use in soils and water remediation within the environmental remediation services industry.

DATES: Written objections must be filed not later than 15 days following publication of this announcement.

ADDRESSES: United States Army Engineer Research and Development Center, ATTN: CEERD-OT (Ms. Bea Shahin), 2902 Newmark Drive, Champaign, IL 6182-1076.

FOR FURTHER INFORMATION CONTACT: Ms. Bea Shahin (217) 373-7234, FAX (217) 373-7210, e-mail: Bea.S.Shahin@usace.army.mil.

SUPPLEMENTARY INFORMATION: This patent application claims a method of manufacturing a remediation material by providing a biogentic material as a substrate, preparing the surface of the substrate for a chemical reaction, and performing template-driven surface derivitization on the surface of the substrate to provide a reactive surface of the substrate for sorption of chemical species or sorption and degradation of chemical species. The remediation material may be placed into contact with surface water, ground water, soil, or sediment by at least one permeable reactive barrier, direct introduction of the material into soil or sediment, to remove contaminants from the surface water, ground water, soil, or sediment.

Brenda S. Bowen,
Army Federal Register Liaison Officer.

[FR Doc. 2011-11634 Filed 5-11-11; 8:45 am]

BILLING CODE 3720-58-P